DEPARTMENT OF LABOR

Mine Safety and Health Administration

30 CFR Parts 70, 71, 72, 75, and 90

RIN 1219-AB64

Lowering Miners' Exposure to Respirable Coal Mine Dust, Including Continuous Personal Dust Monitors

AGENCY: Mine Safety and Health Administration, Labor.

ACTION: Proposed rule; notice of public hearings; corrections.

SUMMARY: The Mine Safety and Health Administration (MSHA) will hold six public hearings on the proposed rule addressing Lowering Miners' Exposure to Respirable Coal Mine Dust, Including Continuous Personal Dust Monitors. The proposed rule was published on October 19, 2010 (75 FR 64412) and is available on MSHA's Web site at http://www.msha.gov/REGS/FEDREG/PROPOSED/2010Prop/2010-25249.pdf. This document also corrects a few errors in the preamble of the proposed rule.

The proposed rule would lower miners' exposure to respirable coal mine dust by revising the Agency's existing standards on miners' occupational exposure to respirable coal mine dust. The major provisions of the proposal would lower the existing exposure limits for respirable coal mine dust; implement full-shift sampling to address extended work shifts; redefine the term “normal production shift;” and provide for the use of a single full-shift sample to determine compliance under the mine operator and MSHA's inspector sampling programs. The proposed rule would also require the use of the Continuous Personal Dust Monitor (CPDM) for exposure monitoring, and expand requirements for medical surveillance.

The proposed rule would significantly improve health protections for underground and surface coal miners by reducing their occupational exposure to respirable coal mine dust and lowering the risk that they will suffer material impairment of health or functional capacity over their working lives.

DATES: Hearings will be held on the following dates: December 7, 2010, December 9, 2010, January 11, 2011, January 13, 2011, January 25, 2011 and January 27, 2011. The locations are listed in the SUPPLEMENTARY INFORMATION section of this document.

Post-hearing comments must be received by midnight Eastern Standard Time on February 28, 2011.

ADDRESSES: Comments must be identified with “RIN 1219-AB64” and may be sent by any of the following methods:

• Federal e-Rulemaking Portal: http://www.regulations.gov. Follow the instructions for submitting comments.

• Electronic mail: zzMSHA-comments@dol.gov. Include “RIN 1219-AB64” in the subject line of the message.

• Facsimile: 202-693-9441. Include “RIN 1219-AB64” in the subject line of the message.

• Regular Mail: MSHA, Office of Standards, Regulations, and Variances, 1100 Wilson Boulevard, Room 2350, Arlington, Virginia 22209-3939.

• Hand Delivery or Courier: MSHA, Office of Standards, Regulations, and Variances, 1100 Wilson Boulevard, Room 2350, Arlington, Virginia. Sign in at the receptionist's desk on the 21st floor.

MSHA will post all comments on the Internet without change, including any personal information provided. Comments can be accessed electronically at http://www.msha.gov under the “Rules & Regs” link. Comments may also be reviewed in person at the Office of Standards, Regulations, and Variances, 1100 Wilson Boulevard, Room 2350, Arlington, Virginia. Sign in at the receptionist's desk on the 21st floor.

MSHA maintains a list that enables subscribers to receive e-mail notification when the Agency publishes rulemaking documents in the Federal Register. To subscribe, go to http://www.msha.gov/subscriptions/subscribe.aspx.

FOR FURTHER INFORMATION CONTACT: Patricia W. Silvey, Director, Office of Standards, Regulations, and Variances, MSHA, at Silvey.Patricia@dol.gov (E-mail), (202) 693-9440 (Voice), or (202) 693-9441 (Fax).

SUPPLEMENTARY INFORMATION:

I. Public Hearings

MSHA will hold six public hearings on the proposed rule to provide the public with an opportunity to present oral statements, written comments, and other information on this rulemaking. The public hearings will begin at 9 a.m. and end after the last presenter speaks, and in any event not later than 5 p.m., on the following dates at the locations indicated:

Date | Location | Contact No.
December 7, 2010 | National Mine Health and Safety Academy, 1301 Airport Road, Beaver, WV 25813 | 304-256-3201
December 9, 2010 | The George Washington Hotel, 60 South Main Street, Washington, PA 15301 | 724-225-3200
January 11, 2011 | Marriott Evansville Airport, 7101 Highway 41, North Evansville, IN 47725 | 812-867-7999
January 13, 2011 | Sheraton Birmingham, 2101 Richard Arrington Jr. Blvd., North Birmingham, AL 35203 | 205-324-5000
January 25, 2011 | Marriott Salt Lake City, 75 S West Temple, Salt Lake City, UT 84101 | 801-531-0800
January 27, 2011 | Mine Safety and Health Administration, 25th Floor Conference Room, 1100 Wilson Blvd., Arlington, VA 22209 | 202-693-9440

The hearings will begin with an opening statement from MSHA, followed by an opportunity for members of the public to make oral presentations. You do not have to make a written request to speak; however, persons and organizations wishing to speak are encouraged to notify MSHA in advance for scheduling purposes.

Speakers and other attendees may present information to MSHA for inclusion in the rulemaking record. The hearings will be conducted in an informal manner. Formal rules of evidence or cross examination will not apply.

A verbatim transcript of the proceedings will be prepared and made a part of the rulemaking record. The transcript will be available to the public on MSHA's website at http://www.msha.gov under the “Rules & Regs” link.

MSHA will accept post-hearing written comments and other appropriate information for the record from any interested party, including those not presenting oral statements. Comments must be received by midnight Eastern Standard Time on February 28, 2011.

MSHA solicits comments from the mining community on all aspects of the proposed rule and is particularly interested in comments that address alternatives to key provisions in the proposal. For example, MSHA invites comment on other situations where it may be appropriate to require the use of CPDMs, such as sampling of other designated occupations on the mechanized mining unit to account for all mining techniques, potential overexposures, and ineffective engineering controls. Commenters are requested to be specific in their comments and submit detailed rationale and supporting documentation for any comment or suggested alternative that is submitted.

II. Corrections

The following errors in the preamble to the proposed rule are corrected to read as follows:

1. On page 64413, second column, top of the page, first line, “from 1-105 fewer cases of pneumoconiosis per thousand exposed truck drivers, and” should read “that improvements would range from 7 fewer cases of pneumoconiosis per thousand loading machine operators up to 105 fewer cases of pneumoconiosis,”.

2. On page 64421, second column, top of the page, eighth line, “(100 ug mg/m³)” should read “(100 ug/m³)”.

3. On page 64476, Table VII-6-Annualized Costs of Proposed Rule 7% Discount Rate, in the fourth column, under the heading “501 +”, first line, “$35.6” should read “$4.4,” and in the fifth column, under the heading, “Totals,” first line, insert “$35.6”.

4. On page 64483, first column, second full paragraph, the equation:

“ói = ìi × CVtotal.”

should read:

“σi = μi × CVtotal”

5. On page 64483, the equation in the center of the page:

should read:

6. On page 64483, second column, below the equation being corrected in 5. above, the equation:

should read:

Dated: November 9, 2010.
Joseph A. Main,
Assistant Secretary of Labor for Mine Safety and Health.

[FR Doc. 2010-28676 Filed 11-12-10; 8:45 am]

BILLING CODE 4510-43-P